RAILROAD RETIREMENT BOARD

Proposed Collection; Comment Request

Summary: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Railroad Unemployment Insurance Act Applications; OMB 3220-0039.

Under Section 2 of the Railroad Unemployment Insurance Act (RUIA) (45 U.S.C. 362), sickness benefits are payable to qualified railroad employees who are unable to work because of illness or injury. In addition, sickness benefits are payable to qualified female employees if they are unable to work, or if working would be injurious, because of pregnancy, miscarriage, or childbirth. Under Section 1(k) of the RUIA a statement of sickness, with respect to days of sickness of an employee, is to be filed with the RRB within a 10-day period from the first day claimed as a day of sickness. The Railroad Retirement Board's (RRB) authority for requesting supplemental medical information is Section 12(i) and 12(n) of the RUIA. The procedures for claiming sickness benefits and for the RRB to obtain supplemental medical information needed to determine a claimant's eligibility for such benefits are prescribed in 20 CFR part 335.

The forms currently used by the RRB to obtain information needed to determine eligibility for, and the amount of, sickness benefits due a claimant follow: Form SI-1a, Application for Sickness Benefits; Form SI-1b, Statement of Sickness; Form SI-3 (Manual & Internet), Claim for Sickness Benefits; Form SI-7, Supplemental Doctor's Statement; Form SI-8, Verification of Medical Information; and Form ID-11A, Requesting Reason for Late Filing of Sickness Benefit. Completion is required to obtain or retain benefits. One response is requested of each respondent. The RRB proposes no changes to Form SI-1a, Form SI-3 (Manual), SI-7, SI-8, and ID-11a; minor non-burden impacting changes to the Form SI-1b to include update to the officer title and RRB zip code in the Paperwork Reduction Act/Privacy Act Notices section; and minor non-burden impacting changes to the Form SI-3 (Internet) to include update to the officer title and RRB zip code in the Paperwork Reduction Act/Privacy Act Notices section, update the “Estimation Completion Time” to 5 minutes, and update zip code on page's 6 and page 7.

Estimate of Annual Respondent Burden
Form No. | Annual responses | Time (minutes) | Burden (hours)
SI-1a (Employee) | 15,700 | 10 | 2,617
SI-1b (Doctor) | 15,700 | 8 | 2,093
SI-3 (Manual) | 131,600 | 5 | 10,967
SI-3 (Internet) | 61,350 | 5 | 5,113
SI-7 | 20,830 | 8 | 2,777
SI-8 | 26 | 5 | 2
ID-11A | 518 | 4 | 35
Total | 245,724 |  | 23,604

Additional Information or Comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2020-13104 Filed 6-17-20; 8:45 am]

BILLING CODE 7905-01-P